DEPARTMENT OF DEFENSE

Office of the Secretary

[Transmittal No. 19-68]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-68 with attached Policy Justification and Sensitivity of Technology.

Dated: June 24, 2020.
Aaron T. Siegel,
Alternate OSD Federal Register Liaison Officer, Department of Defense.

BILLING CODE 5001-06-P

BILLING CODE 5001-06-C

Transmittal No. 19-68

Notice of Proposed Issuance of Letter of Offer Pursuant to Section 36(b)(1) of the Arms Export Control Act, as amended

(i) Prospective Purchaser: Government of the United Arab Emirates

(ii) Total Estimated Value:

Major Defense Equipment * | $ 0 million
Other | $556 million
Total | $556 million

(iii) Description and Quantity or Quantities of Articles or Services under Consideration for Purchase:

Major Defense Equipment (MDE): None

Non-MDE:

Four thousand five hundred sixty-nine (4,569) Mine Resistant Ambush Protected (MRAP) Vehicles consisting of a mix of MaxxPro Long Wheel Base (LWB), MaxxPro Recovery Vehicle (MRV), MaxxPro LWB chassis, MaxxPro Dash, MaxxPro Bases Capsule, MaxxPro MEAP Capsules, MaxxPro Plus, Caiman Multi-Terrain Vehicles without armor, Caiman Base, Caiman Plus, Caiman Capsule, and MRAP All-Terrain Vehicles (MATV), logistics support services, and other related elements of logistical and program support.

(iv) Military Department: Army

(v) Prior Related Cases, if any: AE-B-IBA and AE-B-ZVA

(vi) Sales Commission, Fee, etc., Paid, Offered, or Agreed to be Paid: None

(vii) Sensitivity of Technology Contained in the Defense Article or Defense Services Proposed to be Sold: See Attached Annex

(viii) Date Report Delivered to Congress: May 7, 2020

*As defined in Section 47(6) of the Arms Export Control Act.

POLICY JUSTIFICATION

United Arab Emirates (UAE)—Mine Resistant Ambush Protected (MRAP) Vehicles

The Government of the United Arab Emirates has requested the sale of Excess Defense Articles (EDA) of up to four thousand five hundred sixty-nine (4,569) MRAP vehicles consisting of a mix of MaxxPro Long Wheel Base (LWB), MaxxPro Recovery Vehicle (MRV), MaxxPro LWB chassis, MaxxPro Dash, MaxxPro Bases Capsule, MaxxPro MEAP Capsules, MaxxPro Plus, Caiman Multi-Terrain Vehicles without armor, Caiman Base, Caiman Plus, Caiman Capsule, and MRAP All-Terrain Vehicles (MATV), logistics support services, and other related elements of logistical and program support. The estimated total program cost is $556 million.

The proposed sale will support the foreign policy and national security objectives of the United States by helping to improve the security of an important regional partner. The UAE has been, and continues to be, a vital U.S. partner for political stability and economic progress in the Middle East. This sale is consistent with U.S. initiatives to provide key allies in the region with modern systems that will enhance interoperability with U.S. forces and increase security.

The UAE intends to utilize the MRAP vehicles to increase force protection, to conduct humanitarian assistance operations, and to protect critical infrastructure. Additionally, these MRAPs will enhance the UAE's burden sharing capacity and defensive capabilities. The UAE will have no difficulty absorbing this equipment and support into its armed forces.

The proposed sale of this equipment and support will not affect the basic military balance in the region.

These vehicles will be coming from U.S. Army stocks as EDA; the required EDA Congressional Notifications were made August 6, 2014. There are no known offset agreements proposed in conjunction with this proposed sale.

Implementation of this sale will not require the assignment of U.S. Government or contractor representatives to the UAE.

There will be no adverse impact on U.S. defense readiness as a result of this proposed sale.

Transmittal No. 19-68

Notice of Proposed Issuance of Letter of Offer Pursuant to Section 36(b)(1) of the Arms Export Control Act

Annex

Item No. vii

(vii) Sensitivity of Technology:

1. The Mine Resistant Ambush Protected (MRAP) vehicle is an armored, multi-purpose combat vehicle intended to support mounted urban operations to include convoy security support and dismounted patrols. It is designed to increase crew survivability. The vehicle has a blast-resistant underbody designed to protect the crew from mine blasts, fragmentation, and direct fire weapons.

2. All MRAP vehicle information needed to operate, train, and maintain the vehicles are UNCLASSIFIED. Some design and test data, design performance parameters, armoring methodology, vulnerabilities, armor types, and configuration can be classified up to SECRET.

3. Loss of this hardware, software, documentation, and/or data could permit development of information which may lead to a significant threat to future U.S. military operations. If a technologically advanced adversary were to obtain knowledge of the specific hardware and software elements, the information could be used to develop countermeasures or equivalent systems which might reduce weapon system effectiveness or be used in the development of a system with similar or advanced capabilities.

4. A determination has been made that the UAE can provide substantially the same degree of protection for this technology as the U.S. Government. This proposed sale is necessary in furtherance of the U.S. foreign policy and national security objectives outlined in the Policy Justification.

5. All of the defense articles and services listed in this transmittal have been authorized for release and export to the UAE.

[FR Doc. 2020-14069 Filed 6-29-20; 8:45 am]

BILLING CODE 5001-06-P